INTERNATIONAL TRADE COMMISSION

[Investigation No. 337-TA-1295 (Sanctions)]

Certain Integrated Circuit Products and Devices Containing the Same; Notice of a Commission Determination Not To Review an Order Denying Respondent Realtek Semiconductor Corporation's Motion for Sanctions; Termination of the Sanctions Proceeding

AGENCY: U.S. International Trade Commission.

ACTION: Notice.

SUMMARY: Notice is hereby given that the U.S. International Trade Commission has determined not to review an order (Order No. 11) issued by the presiding administrative law judge (“ALJ”) denying Respondent Realtek Semiconductor Corp.'s (“Realtek”) motion for sanctions. This sanctions proceeding is hereby terminated.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on January 31, 2022, based on a complaint, as supplemented, filed on behalf of Future Link Systems, LLC (“Future Link”) of Santa Clara, California. 87 FR 4915 (Jan. 31, 2022). The complaint, as supplemented, alleged violations of section 337 of the Tariff Act of 1930, as amended, 19 U.S.C. 1337, based upon the importation into the United States, the sale for importation, and the sale within the United States after importation of certain integrated circuit products and devices containing the same that infringe one of more of claims 1-6 of U.S. Patent No. 7,685,439 and claims 1-9 of U.S. Patent No. 8,099,614. Id. at 4916. The complaint also alleged the existence of a domestic industry. Id. The Commission's notice of investigation named seventeen respondents, including Realtek of Taiwan. Id. The Office of Unfair Import Investigations (“OUII”) was also named as a party in this investigation. Id.

On April 4, 2022, Realtek filed a motion for sanctions against Future Link and its counsel. The ALJ held a teleconference on April 6, 2022, to discuss Realtek's motion for sanctions. The ALJ directed Future Link and OUII not to file a response to the motion. On April 12, 2022, the ALJ issued Order No. 11, denying Realtek's motion for sanctions. On April 22, 2022, Realtek requested leave to apply for interlocutory review of Order No. 11. The ALJ denied Realtek's request on May 3, 2022. See Order No. 14 (May 3, 2022).

On April 28, 2022, Future Link filed a motion to terminate the investigation as to Realtek based on withdrawal of the complaint. On May 6, 2022, Future Link filed a motion to terminate the investigation as to all remaining respondents based on settlement. On May 31, 2022, the ALJ issued an initial determination (“ID”) (Order No. 17), granting Future Link's motions to terminate. On June 9, 2022, the Commission determined not to review Order No. 17 and the investigation was terminated in its entirety. 87 FR 35995-996 (Jun. 14, 2022).

Following termination of the investigation, on June 15, 2022, the Commission set a briefing schedule in connection with Order No. 11. See Comm'n Notice (June 15, 2022). Thereafter, on June 23, 2022, Realtek filed a petition for review of Order No. 11. On June 27, 2022, Realtek filed a motion for leave to file a corrected petition. Future Link and OUII filed responses to the petition on June 30, 2022.

Having considered Order No. 11, the parties' submissions, and the evidence of record, the Commission has determined not to review Order No. 11. The Commission has also determined to deny Realtek's motion for leave to file a corrected petition because Realtek failed to provide good cause for its allegedly mistaken omission of a footnote. The sanctions proceeding is hereby terminated.

The Commission vote for this determination took place on September 16, 2022.

The authority for the Commission's determination is contained in section 337 of the Tariff Act of 1930, as amended, 19 U.S.C. 1337, and in part 210 of the Commission's Rules of Practice and Procedure, 19 CFR part 210.

By order of the Commission.
Issued: September 16, 2022.
Katherine Hiner, Acting Secretary to the Commission.

[FR Doc. 2022-20510 Filed 9-21-22; 8:45 am]

BILLING CODE 7020-02-P